GENERAL SERVICES ADMINISTRATION

[OMB Control NO. 3090-00283]

Office of the Chief Information Officer; Information Collection; Temporary Contractor Information Worksheet

AGENCY: Office of Enterprise Solutions (IA), Office of the Chief Information Officer (OCIO), General Services Administration (GSA).

ACTION: Information Collection Activities: Proposed Collection; Comment Request.

SUMMARY: In accordance with the Paperwork Reduction Act (44 U.S.C. 3501 et seq.), the General Services Administration invites the general public and Federal agencies to comment on a new information collection request for the collection of personal data to authorize and initiate investigation requests for GSA temporary contractors. [xx] GSA requires OMB approval for this collection to ensure that contractors meet eligibility requirements. The approval is critical for GSA to meet the anticipated increase in number of temporary contractors as a result of the American Recovery and Reinvestment Act of 2009 (Pub. L. 111-5). In the Federal Register Notice published at 74 FR 7439 on February 17, 2009, the portion that references the GSA Form 176T will be withdrawn in a subsequent Federal Register Notice.]

Public comments are particularly invited on: Whether this collection of information is necessary and whether it will have practical utility; whether our estimate of the public burden of this collection of information is accurate, and based on valid assumptions and methodology; ways to enhance the quality, utility, and clarity of the information to be collected.

DATES: Submit comments on or before: July 14, 2009.

FOR FURTHER INFORMATION CONTACT: Mr. William Erwin, [xx] Program Manager, HSPD-12 Program Management Office, GSA, 1800 F Street, NW., Washington, DC 20405; or telephone (202) 501-0758. Please cite OMB Control No. 3090-00XX, Temporary Contractor Information Worksheet. The form can be downloaded from the GSA Forms Library at http://www.gsa.gov/forms. Type GSA850 in the form search field.

ADDRESSES: Comments may be submitted via http://www.regulations.gov—a Federal E-Government Web site that allows the public to find, review, and submit comments on documents that agencies have published in the Federal Register and that are open for comment. Simply type a key term in the information collection title such as “temporary contractor information worksheet” in quotes in the Comment or Submission search box, click Go, and follow the instructions for submitting comments. Comments received by the date specified above will be included as part of the official record.

Submit comments regarding this burden estimate or any other aspect of this collection of information, including suggestions for reducing this burden to the Regulatory Secretariat (VPR), General Services Administration, Room 4041, 1800 F Street, NW., Washington, DC 20405. Please cite Temporary Contractor Information Worksheet in all correspondence.

SUPPLEMENTARY INFORMATION:

A. Purpose

The U.S. Government conducts criminal checks to establish that applicants or incumbents working for the Government under contract may have unescorted access to GSA-controlled facilities. GSA will use the Temporary Contractor Information Worksheet and the FBI Form FD-258 Fingerprint Card to conduct an FBI National Criminal History Check (NCHC) for each temporary contractor (working on contract for six (6) months or less and require physical access only) to determine eligibility to work on GSA contracts including those awarded under the American Recovery and Reinvestment Act of 2009 (Public Law 111-5). GSA is anticipating a large influx in temporary contractors due to the American Recovery and Reinvestment Act of 2009.

The Office of Management and Budget (OMB) Guidance M-05-24 for Homeland Security Presidential Directive (HSPD) 12 authorizes Federal departments and agencies to ensure that temporary contractors have limited/controlled access to facilities and information systems. GSA Directive CIO P 2181.1 Homeland Security Presidential Directive-12 Personal Identity Verification and Credentialing (available at http://www.gsa.gov/hspd12) states that GSA temporary contractors must undergo a minimum of an FBI National Criminal History Check (NCHC) to receive unescorted physical access. Temporary contractors' Social Security Number is needed to keep records accurate, because other people may have the same name and birth date. Executive Order 9397 Numbering System for Federal Accounts Relating to Individual Persons also allows Federal agencies to use this number to help identify individuals in agency records. GSA describes how information will be maintained in the Privacy Act system of record notice published in the Federal Register at 73 FR 35690 on June 24, 2008.

This is a request to collect new information.

B. Annual Reporting Burden

Respondents: 24,480.

Responses per Respondent: 1.

Hours per Response: .25.

Total Burden Hours: 6,120.

Obtaining Copies of Proposals: Requesters may obtain a copy of the information collection documents from the General Services Administration, Regulatory Secretariat (VPR), 1800 F Street, NW., Room 4041, Washington, DC 20405, telephone (202) 501-4755. Please cite Temporary Contractor Information Worksheet in all correspondence. The form can be downloaded from the GSA Forms Library at http://www.gsa.gov/forms. Type GSA850 in the form search field.

Dated: May 7, 2009.
Casey Coleman,
Chief Information Officer, U.S. General Services Administration.

[FR Doc. E9-11315 Filed 5-14-09; 8:45 am]

BILLING CODE 6820-23-P